DEPARTMENT OF HEALTH AND HUMAN SERVICES

Centers for Disease Control and Prevention

[60Day-24-0931; Docket No. CDC-2023-0094]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Blood Lead Surveillance System (BLSS). The National Center for Environmental Health (NCEH) is leading a three-year Extension for two CDC information collections, one for childhood blood lead surveillance by NCEH and another for adult blood lead surveillance by the National Institute for Occupational Safety and Health (NIOSH).

DATES: CDC must receive written comments on or before January 26, 2024.

ADDRESSES: You may submit comments, identified by Docket No. CDC-2023-0094 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Blood Lead Surveillance System (BLSS) (OMB Control No. 0920-0931, Exp. 7/31/2024)—Extension—National Center for Environmental Health (NCEH), Centers for Disease Control and Prevention (CDC).

Background and Brief Description

This is a request for a three-year extension for an existing Paperwork Reduction Act (PRA) clearance titled “Blood Lead Surveillance System (BLSS)” (OMB Control No. 0920-0931; Exp. 7/31/2024). The National Center for Environmental Health (NCEH) is leading this Information Collection Request (ICR) for two Centers for Disease Control and Prevention (CDC) collections, one for childhood blood lead surveillance by NCEH and another for adult blood lead surveillance by the National Institute for Occupational Safety and Health (NIOSH).

The goal of the NCEH Childhood Blood Lead Surveillance (CBLS) Program is to support blood lead screening and to promote primary prevention of exposure to lead. Also, the CBLS Program supports secondary prevention of adverse health effects when lead exposures occur in children, through improved program management and oversight in respondent jurisdictions. The goal of the NIOSH Adult Blood Lead Epidemiology and Surveillance (ABLES) Program is to build state capacity for adult blood lead surveillance programs to measure trends in adult blood lead levels and to prevent lead over-exposures.

NCEH has a five-year cooperative agreement, titled “Childhood Lead Poisoning Prevention and Surveillance of Blood Lead Levels in Children” (Funding Opportunity Announcement [FOA] No. CDC-RFA-EH21-2102). The first two years of this ICR will extend from FY24, through FY26, and thus will be covered for two-thirds of the ICR's three-year approval period, while funding for the third year of this ICR will be determined in the future. Data submission is voluntary and completed through data sharing agreements with state agencies or their bona fide agents.

Blood lead surveillance over the human lifespan is covered under this single ICR, specifically for children younger than 16 years through CBLS at NCEH, and for adults 16 years and older, through ABLES at NIOSH. Over the past several decades there have been substantial efforts in environmental lead abatement, improved protection from occupational lead exposure, and a reduction in the prevalence of population blood lead levels (BLLs) over time. The U.S. population BLLs have substantially decreased over the last four decades. For example, the CDC has reported the 1976-1980 U.S. mean BLL in children six months to five years was 16.0 micrograms per deciliter (mcg/dL), and 14.1 mcg/dL among adults 18 to 74 years. More recently, the CDC reported the 2009-2010 U.S. BLL geometric means among children ages one to five years and among adults 20 years and older as 1.2 mcg/dL for both age groups. In 2012, the National Toxicology Program (NTP) concluded that there is sufficient evidence that even BLLs less than 5.0 mcg/dL are associated with adverse health effects in both children and adults. Despite the reduction in the overall population BLL over four decades, lead exposures continue to occur at unacceptable levels for individuals in communities and workplaces across the nation. Surveillance will continue through CBLS and ABLES to identify individuals with BLLs greater than most children who may need follow-up. Surveillance can also help prioritize communities for primary prevention of lead exposure and expanding blood lead testing. As of October 2021, NCEH defines its Blood Lead Reference Value (BLRV) for children at 3.5 mcg/dL. NIOSH defines an elevated BLLs as greater than or equal to 5.0 mcg/dL for adults.

Respondents are defined as state, local, and territorial health departments with lead poisoning prevention programs. The estimated annual time burden for NCEH CBLS is 1,058 hours. The estimated annual time burden for NIOSH ABLES is 280 hours. In total, CDC is requesting approval for a total annual time burden of 1,338 hours. There is no cost to respondents other than their time to participate.

Estimated Annualized Burden Hours
Type of respondents | Form name | Number of respondents | Number of responses per respondent | Average burden per response (in hours) | Total burden (in hours)
State, Local and Territorial Health Departments, or their Bona Fide Agents | CBLS Variables (ASCII Text Files) CBLS Aggregate Records Form (Excel) | 66 1 | 4 1 | 4 2 | 1,056 2
| ABLES Case Records Form and Brief Narrative Report | 32 | 1 | 8 | 256
| ABLES Aggregate Records Form and Brief Narrative Report | 8 | 1 | 3 | 24
Total |  |  |  |  | 1,338

Jeffrey M. Zirger,
Lead, Information Collection Review Office, Office of Public Health Ethics and Regulations, Office of Science, Centers for Disease Control and Prevention.

[FR Doc. 2023-26085 Filed 11-24-23; 8:45 am]

BILLING CODE 4163-18-P